POSTAL SERVICE

Notice of Proposed Intelligent Mail Indicia Performance Criteria With Request for Comments

AGENCY: Postal Service ™.

ACTION: Proposed change.

SUMMARY: The Postal Service is updating and consolidating the product submission procedures for Postage Evidencing Systems (PES). This involves the replacement of the current Information-Based Indicia Performance Criteria (IBI PC) with new Intelligent Mail Indicia Performance Criteria (IMI PC).

DATES: Copies of the proposed IMI PC will be available effective March 30, 2012. Comments on the proposed IMI PC must be received on or before May 30, 2012.

ADDRESSES: To receive a copy of the proposed IMI PC, mail or deliver written requests to: USPS Payment Technology/Attn: Marlo Kay Ivey, 475 L'Enfant Plaza SW., Room 3660, Washington, DC 20260-4110. To comment on the proposed IMI PC, mail or deliver written comments to the Manager, Payment Technology, USPS, 475 L'Enfant Plaza SW., Room 3436, Washington, DC 20260-4110. Copies of all written comments will be available, by appointment, for inspection and photocopying between 9 a.m. and 4 p.m., Monday through Friday, at the Payment Technology office.

FOR FURTHER INFORMATION CONTACT: Marlo Kay Ivey, Business Programs Specialist, Payment Technology, U.S. Postal Service, at 202-268-7613.

SUPPLEMENTARY INFORMATION: Current product submission procedures and the IBI PC are approximately 10 years old and have had little or no substantive updates since being initially provided to the PES (postage meter and PC Postage®) industry. The PES environment has changed substantially with availability of new technology to offer new PES products designed to meet new customer needs for access to postage. In addition, changes within the United States Postal Service® (USPS®) infrastructure have taken place to provide enhanced opportunities for PES providers to propose new concepts, methods, and processes to enable customers to print pre-paid evidence of postage while improving the efficiency and effectiveness of Postal Service operations.

The Postal Service proposes to replace the current PES product submission procedures and the IBI PC with the proposed IMI PC Document (the “Document”). This Document is comprised of four volumes to support the USPS PES Test and Evaluation Program (the “Program”). The intent is for the volumes to fully support each other but not be redundant in content.

Volume I—PES Requirements. Provides the PES industry and test laboratories with the information, requirements, and guidance necessary to develop new PES, and provides reference for guidance for current approved PES for interim changes, as determined necessary, to maintain interoperability with the USPS systems and processes.

Volume II—IMI Requirements. Provides the minimum required information, both human- and machine-readable, for all pre-paid evidence of postage produced by a PES. Also provides the reporting requirements for all supporting data systems used by USPS to manage the program.

Volume III—Test and Evaluation Requirements. Provides for laboratories certified by National Institute of Standards and Technology (NIST) to perform Federal Information Processing Standard (FIPS) 140-X testing, and provides PES testing entities with guidance on test and evaluation procedures that a PES system must undergo to receive USPS approval.

Volume IV—PES Test and Evaluation Program Requirements. Provides the Program and logistical processes that are required for a PES to obtain approval from USPS, as well as the requirements for the evaluation and submission of changes and updates to a previously approved PES.

Stanley F. Mires,
Attorney, Legal Policy & Legislative Advice.

[FR Doc. 2012-7359 Filed 3-29-12; 8:45 am]

BILLING CODE 7710-12-P